FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's website (www.fmc.gov) or by contacting the Office of Agreements at (202)523-5793 or tradeanalysis@fmc.gov.

Agreement No.: 012136-002.

Title: HSDG/ML/MSC Space Charter Agreement.

Parties: Maersk Line A/S, Mediterranean Shipping Company S.A., and Hamburg Sud.

Filing Party: Wayne Rohde; Cozen O'Connor; 1200 Nineteenth Street NW, Washington, DC 20036.

Synopsis: The amendment revises Article 5.1 to reflect a change in the amount of space being chartered and to delete obsolete material. It also deletes obsolete material from Article 9.2.

Agreement No.: 012419-001.

Title: Sealand/ELJSA Vessel Sharing Agreement.

Parties: Maersk Line A/S, d/b/a Sealand; and Evergreen Line Joint Service Agreement.

Filing Party: Wayne Rohde; Cozen O'Connor; 1200 Nineteenth Street NW, Washington, DC 20036.

Synopsis: The amendment adds Colombia to the scope of the Agreement, revises the space allocations of the parties and reflects the consent of the parties to additional sub-charter arrangements.

Agreement No.: 011730-007.

Title: GWF/Dole Space Charter and Sailing Agreement.

Parties: Dole Ocean Cargo Express Inc.; Great White Fleet Corp.; and Great White Fleet Liner Services, Ltd.

Filing Party: Wade S. Hooker; 211 Central Park W, New York, NY 10024.

Synopsis: The amendment adds Great White Fleet Corp. as a party to the Agreement, with Great White Fleet Corp. and Great White Fleet Liner Services Ltd. being treated as a single party to the Agreement.

Agreement No.: 201234-001.

Title: Agreement by Ocean Common Carriers to Participate on the Exchange Board.

Parties: CMA CGM S.A.; COSCO Shipping Co., Ltd., Hapag-Lloyd AG; and Mitsui O.S.K. Lines, Ltd.

Filing Party: Ashley W. Craig, Esq.; Venable LLP; 600 Massachusetts Ave. NW, Washington, DC 20001.

Synopsis: The amendment adds Maersk Line A/S as a party to the Agreement.

Agreement No.: 201235-001.

Title: Agreement by Ocean Common Carriers to Use Standard Service Contract Terms.

Parties: CMA CGM S.A.; COSCO Shipping Co., Ltd., Hapag-Lloyd AG; and Mitsui O.S.K. Lines, Ltd.

Filing Party: Ashley W. Craig, Esq.; Venable LLP; 600 Massachusetts Ave. NW, Washington, DC 20001.

Synopsis: The amendment adds Maersk Line A/S as a party to the Agreement.

By Order of the Federal Maritime Commission.
Dated: January 26, 2018.
JoAnne O'Bryant,
Program Analyst.

[FR Doc. 2018-01908 Filed 1-30-18; 8:45 am]

BILLING CODE 6731-AA-P